DEPARTMENT OF TRANSPORTATION

Federal Aviation Administration

14 CFR Part 71

[Docket No. FAA-2019-0893; Airspace Docket No. 18-ASW-13]

RIN 2120-AA66

Proposed Amendment of VOR Federal Airways V-18, V-54, V-114, and V-583 in the Vicinity of Quitman, TX

AGENCY: Federal Aviation Administration (FAA), DOT.

ACTION: Notice of proposed rulemaking (NPRM).

SUMMARY: This action proposes to amend four VHF Omnidirectional Range (VOR) Federal airways, V-18, V-54, V-114, and V-583, in the vicinity of Quitman, TX. The modifications are necessary due to the planned decommissioning of the VOR portion of the Quitman, TX, VOR/Distance Measuring Equipment (VOR/DME) navigation aid (NAVAID), which provides navigation guidance for portions of the affected air traffic service (ATS) route. The Quitman VOR is being decommissioned as part of the FAA's VOR Minimum Operational Network (MON) program.

DATES: Comments must be received on or before January 27, 2020.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2019-0893; Airspace Docket No. 18-ASW-13 at the beginning of your comments. You may also submit comments through the internet at https://www.regulations.gov.

FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the route structure as necessary to preserve the safe and efficient flow of air traffic within the National Airspace System.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2019-0893; Airspace Docket No. 18-ASW-13) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2019-0893; Airspace Docket No. 18-ASW-13.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except federal holidays. An informal docket may also be examined during normal business hours at the office of the Operations Support Group, Central Service Center, Federal Aviation Administration, 10101 Hillwood Blvd., Fort Worth, TX 76177.

Availability and Summary of Documents for Incorporation by Reference

This document proposes to amend FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

Background

The FAA is planning decommissioning activities for the VOR portion of the Quitman, TX, VOR/DME in July, 2020. Quitman VOR is one of the candidate VORs identified for discontinuance by the FAA's VOR MON program and listed in the final policy statement notice, “Provision of Navigation Services for the Next Generation Air Transportation System (NextGen) Transition to Performance-Based Navigation (PBN) (Plan for Establishing a VOR Minimum Operational Network),” published in the Federal Register of July 26, 2016 (81 FR 48694), Docket No. FAA-2011-1082. Although the VOR portion of the Quitman, TX, VOR/DME NAVAID is planned for decommissioning, the DME portion is being retained. The ATS route dependencies to the Quitman VOR are VOR Federal airways V-18, V-54, V-114, and V-583.

With the planned decommissioning of the Quitman VOR, the proposed modifications to the dependent VOR Federal airways would result in gaps in the airways. To overcome the gaps, instrument flight rules (IFR) traffic could use adjacent VOR Federal airways, including V-15, V-16, V-94, V-124, V-278, V-289, and V-569, to circumnavigate the affected area. Additionally, IFR traffic could file point to point through the affected area using the existing airway fixes that will remain in place, or receive air traffic control (ATC) radar vectors through the area. Visual flight rules pilots who elect to navigate via the airways through the affected area could also take advantage of the adjacent VOR Federal airways or ATC services listed previously.

Additionally, this action would also correct the V-114 legal description published in FAA Order 7400.11D by changing the airway segment listed between the Wichita Falls, TX, VORTAC and the Blue Ridge, TX, VORTAC with an airway segment between the Wichita Falls, TX, VORTAC and the Bonham, TX, VORTAC. This change to the legal description matches an airway amendment made in 1996 by the FAA due to the Blue Ridge, TX, VORTAC being decommissioned and replaced by the newly commissioned Bonham, TX, VORTAC (61 FR 34722, July 3, 1996). Although V-114 was amended in 1996 as noted above, the legal description amendment was not published in FAA Order 7400.11 (formerly FAA Order 7400.9) at that time, in error. Subsequent to the V-114 airway amendment made in 1996, the FAA further amended the airway in 2015 to change the Baton Rouge, LA, VORTAC name to the Fighting Tiger, LA, VORTAC (80 FR 8239, February 17, 2015). In that amendment action, the FAA inadvertently republished the “Wichita Falls, TX; INT Wichita Falls 117° and Blue Ridge, TX, 285° radials; Blue Ridge” airway segment in the legal description. This action would correct the V-114 legal description to reflect the airway amendment made in 1996 and overlooked in 2015 by changing the airway segment currently listed as “Wichita Falls, TX; INT Wichita Falls 117° and Blue Ridge, TX, 285° radials; Blue Ridge” to read “Wichita Falls, TX; Bonham, TX.”

The Proposal

The FAA is proposing an amendment to Title 14 Code of Federal Regulations (14 CFR) part 71 by modifying VOR Federal airways V-18, V-54, V-114, and V-583. The planned decommissioning of the VOR portion of the Quitman, TX, VOR/DME NAVAID has made this action necessary. The proposed VOR Federal airway changes are outlined below.

V-18: V-18 currently extends between the Millsap, TX, VOR/Tactical Air Navigation (VORTAC) and the Charleston, SC, VORTAC. In a separate NPRM, the FAA proposed to remove the airway segment between the Vulcan, AL, VORTAC and the Colliers, SC, VORTAC (83 FR 67165, December 28, 2018). The FAA now proposes to remove the airway segment between the Cedar Creek, TX, VORTAC and the Belcher, LA, VORTAC. This would result in a gap in the airway between Cedar Creek, TX, and Belcher, LA, and then again between Vulcan, AL, and Colliers, SC. Therefore, the proposed amended V-18 would consist of three separate sections: The first, between the Millsap, TX, VORTAC and the Cedar Creek, TX, VORTAC; the second, after the gap, between the Belcher, LA, VORTAC and the Vulcan, AL, VORTAC; and the third, after the second gap, between the Colliers, SC, VORTAC and the Charleston, SC, VORTAC. The unaffected portions of the existing airway would remain as charted.

V-54: V-54 currently extends between the Waco, TX, VORTAC and the Kinston, NC, VORTAC. The FAA proposes to remove the airway segment between the Cedar Creek, TX, VORTAC and the Texarkana, AR, VORTAC. Therefore, the proposed amended V-54 would consist of two separate sections: The first, between the Waco, TX, VORTAC and the Cedar Creek, TX, VORTAC; and the second, after the gap, between the Texarkana, AR, VORTAC and the Kinston, NC, VORTAC. The unaffected portions of the existing airway would remain as charted.

V-114: V-114 currently extends between the Panhandle, TX, VORTAC and the Eaton, MS, VORTAC, excluding the portion within restricted areas R-3801B and R-3701C when active. The FAA proposes to remove the airway segment between the Bonham, TX, VORTAC and the Gregg County, TX, VORTAC. Therefore, the proposed amended V-114 would consist of two separate sections: The first, between the Panhandle, TX, VORTAC and the Bonham, TX, VORTAC; and the second, after the gap, between the Gregg County, TX, VORTAC and the Eaton, MS, VORTAC. The unaffected portions of the existing airway would remain as charted.

V-583: V-583 currently extends between the Centex, TX, VORTAC and the McAlester, OK, VORTAC. The FAA proposes to remove the airway segment between the Frankston, TX, VOR/DME and the Paris, TX, VOR/DME. Therefore, the proposed amended V-583 would consist of two separate sections: The first, between the Centex, TX, VORTAC and the Frankston, TX, VOR/DME; and the second, after the gap, between the Paris, TX, VOR/DME and the McAlester, OK, VORTAC. The unaffected portions of the existing airway would remain as charted.

All radials in the route descriptions below are unchanged and stated in True degrees.

VOR Federal airways are published in paragraph 6010(a) of FAA Order 7400.11D dated August 8, 2019, and effective September 15, 2019, which is incorporated by reference in 14 CFR 71.1. The VOR Federal airways listed in this document would be subsequently published in the Order.

FAA Order 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 6010(a) Domestic VOR Federal Airways.

* * * * *

V-18 [Amended]

From Millsap, TX; Glen Rose, TX; to Cedar Creek, TX. From Belcher, LA; Monroe, LA; Magnolia, MS; Meridian, MS; Crimson, AL; Vulcan, AL; Talladega, AL; Atlanta, GA; Colliers, SC; to Charleston, SC.

* * * * *

V-54 [Amended]

From Waco, TX; to Cedar Creek, TX. From Texarkana, AR; INT Texarkana 052° and Little Rock, AR, 235° radials; Little Rock; Marvell, AR; Holly Springs, MS; Muscle Shoals, AL; Rocket, AL; Choo Choo, GA; Harris, GA; Spartanburg, SC; Charlotte, NC; Sandhills, NC; INT Sandhills 146° and Fayetteville, NC, 267° radials; Fayetteville; to Kinston, NC.

* * * * *

V-114 [Amended]

From Panhandle, TX; Childress, TX; Wichita Falls, TX; to Bonham, TX. From Gregg County, TX; Alexandria, LA; INT Fighting Tiger, LA, 307° and Lafayette, LA, 042° radials; 7 miles wide (3 miles north and 4 miles south of centerline); Fighting Tiger; INT Fighting Tiger 112° and Reserve, LA, 323° radials; Reserve; INT Reserve 084° and Gulfport, MS, 247° radials; Gulfport; INT Gulfport 344° and Eaton, MS, 171° radials; to Eaton, excluding the portion within R-3801B and R-3701C when active.

* * * * *

V-583 [Amended]

From Centex, TX; INT Centex 061° and College Station, TX, 273° radials; College Station; Leona, TX; to Frankston, TX. From Paris, TX; to McAlester, OK.

* * * * *

Issued in Washington, DC, on December 4, 2019.
Rodger A. Dean Jr.,
Manager, Rules and Regulations Group.

[FR Doc. 2019-26603 Filed 12-11-19; 8:45 am]

BILLING CODE 4910-13-P